DEPARTMENT OF THE INTERIOR

Bureau of Land Management

[ES-030-1430-BJ, ES-051868, Group 551, Minnesota]

Notice of Filing of Plat of an Island; Minnesota

1. The Bureau of Land Management (BLM) will officially file the plat of the planimetric survey of an island in Two Inlets Lake, Township 141 North, Range 36 West, Fifth Principal Meridian, Minnesota, accepted on May 6, 2003, in the Eastern States Office, Springfield, Virginia, 30 calendar days from the date of publication in the Federal Register. The tract shown below describes the island omitted from the original survey.

Fifth Principal Meridian, Minnesota T. 141 N. R. 36 W. Tract No. 37

2. Tract No. 37, Lakes States County Sequential Control No. 001, Becker County, is firm land rising 10-15 ft. above the ordinary high water mark. The north and northeast sides of the island have a well defined bank, 2-3 ft. high. The soil composition is of glacial till topped with a layer of humus 6-9 in. deep and is similar to the soil found on the adjacent uplands. Several large stumpholes from wind-thrown trees were observed on the island. Tree species consist of aspen, clump basswood, balsam fir, elm, and birch, ranging in size from 4 to 23 inches in diameter, with a maximum age of 75+ years. The ground cover consists of sapling trees, briar, hazel, cranberry, sumac and native grasses.

3. MN Department of Natural Resources (DNR) has recorded the water levels of Two Inlets Lake from 1938 to the present. The MN DNR reports the average water level for this period to be 1456.09 ft. NGVD 1929. The DNR reading taken closest to the date of the aerial imagery was recorded on May 5, 1991, as 1456.21 ft. NGVD 1929. The present water level of the lake agrees with the levels reported by the MN DNR. The record meander line was overlaid to scale on the 1991 aerial imagery and found to compare favorably. The open water channel between the south end of the island and the adjoining upland is 4 chains across and averages 10 feet deep.

4. The upland character of this island along with the depth and width of the channel attests to its existence in 1858 when Minnesota was admitted to the Union; in 1878 at the time of the original survey; and at all subsequent dates.

5. The island returned by this plat is classified as being more than 50 percent upland in character within the purview of the Swamp and Overflow Act of September 28, 1850 (9 Stat. 519) as extended to the State of Minnesota under the Act of March 12, 1860 (12 Stat. 3).

6. The survey was requested by the Assistant Field Manager, Division of Natural Resource Management, under the authority of the Minnesota Public Lands Improvement Act (MPLIA) of 1990, Pub. L. 101-442 (104 Stat. 1020).

7. Except for valid existing rights, this island will not be subject to application, petition, location or selection under any public law until 30 calendar days after the date of publication in the Federal Register.

8. Interested parties protesting the determination that this island is public land of the United States, must present valid proof showing that the island did not exist at the time of statehood or that it was attached to the mainland at the time of the original survey. Such protests must be submitted in writing to the Chief Cadastral Surveyor, Eastern States, Bureau of Land Management, 7450 Boston Boulevard, Springfield, Virginia 22153, prior to the date of the official filing.

We will place a copy of the plat we described in the open files. Copies of the plat will be made available upon request and prepayment of the appropriate fee.

Dated: May 13, 2003.
Stephen D. Douglas,
Chief Cadastral Surveyor.

[FR Doc. 03-12537 Filed 5-19-03; 8:45 am]

BILLING CODE 4310-GJ-P